DEPARTMENT OF THE INTERIOR

National Park Service

[N6548; NPS-WASO-NAGPRA-NPS0041137; PPWOCRADN0-PCU00RP14.R50000]

Notice of Inventory Completion: University of California, Berkeley, Berkeley CA

AGENCY: National Park Service, Interior.

ACTION: Notice.

SUMMARY: In accordance with the Native American Graves Protection and Repatriation Act (NAGPRA), the University of California, Berkeley has completed an inventory of human remains and associated funerary objects and has determined that there is a cultural affiliation between the human remains and associated funerary objects and Indian Tribes or Native Hawaiian organizations in this notice.

DATES: Repatriation of the human remains and associated funerary objects in this notice may occur on or after October 27, 2025.

ADDRESSES: Send written requests for repatriation of the human remains and associated funerary objects in this notice to Alexandra Lucas, Government and Community Relations, Office of the Chancellor. University of California, Berkeley, 200 California Hall, Berkeley, CA 94720, email nagpra-ucb@berkeley.edu.

SUPPLEMENTARY INFORMATION: This notice is published as part of the National Park Service's administrative responsibilities under NAGPRA. The determinations in this notice are the sole responsibility of the University of California, Berkeley, and additional information on the determinations in this notice, including the results of consultation, can be found in its inventory or related records. The National Park Service is not responsible for the determinations in this notice.

Abstract of Information Available

Between 1940 and 1967, ancestral remains representing, at minimum, 109 individuals and 3,560 associated funerary belongings were removed from CA-Las-7 (Karlo Site), Lassen County, California by various individuals and accessioned into the University of California Museum of Anthropology (now known by Phoebe A. Hearst Museum of Anthropology).

The 3,560 funerary belongings include abraders, arrows, awls, baked and unbaked clay, beads, blades, blanks, bone tools, charcoal, choppers, core tools, crystal, die, discoidal fragments, disk fragments, drills, effigies, faunal remains, fishing equipment, flakes, floral remains, gambling and gaming objects, grinding stones, hammerstones, knives, level bag, lithics, manos, matrix, metates, mortars and pestles, ocher, ore, pendants and ornaments, perforators, pigment, pipes, plastic bird, points, rubbing stone, saws, scrapers, shells, weights, worked and unworked scoria, worked and unworked stone, and worked bone.

Collections and collection spaces at the Phoebe A. Hearst Museum of Anthropology were treated with substances for preservation and pest control, some potentially hazardous. No records have been found to date at the Museum to indicate whether or not chemicals or natural substances were used prior to 1960.

Cultural Affiliation

Based on the information available and the results of consultation, cultural affiliation is reasonably identified by the geographical location or acquisition history of the human remains and associated funerary objects described in this notice.

Determinations

The University of California, Berkeley has determined that:

• The human remains described in this notice represent the physical remains of 109 individuals of Native American ancestry.

• The 3,560 objects described in this notice are reasonably believed to have been placed intentionally with or near individual human remains at the time of death or later as part of the death rite or ceremony.

• There is a connection between the human remains and associated funerary objects described in this notice and the Berry Creek Rancheria of Maidu Indians of California; Bridgeport Indian Colony; Cedarville Rancheria, California; Enterprise Rancheria of Maidu Indians of California; Fort Bidwell Indian Community of the Fort Bidwell Reservation of California; Greenville Rancheria; Mooretown Rancheria of Maidu Indians of California; Pit River Tribe, California (includes IL Ranch, Big Bend, Likely, Lookout, Montgomery Creek, and Roaring Creek Rancherias); and the Susanville Indian Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 27, 2025. If competing requests for repatriation are received, the University of California, Berkeley must determine the most appropriate requestor prior to repatriation. Requests for joint repatriation of the human remains and associated funerary objects are considered a single request and not competing requests. The University of California, Berkeley is responsible for sending a copy of this notice to the Indian Tribes and Native Hawaiian organizations identified in this notice and any other consulting parties.

Authority: Native American Graves Protection and Repatriation Act, 25 U.S.C. 3003, and the implementing regulations, 43 CFR 10.10.

Dated: September 11, 2025.
Melanie O'Brien,
Manager, National NAGPRA Program.

[FR Doc. 2025-18576 Filed 9-24-25; 8:45 am]

BILLING CODE 4312-52-P